DEPARTMENT OF ENERGY

Federal Energy Regulatory Commission

[Docket No. IC23-3-000]

Commission Information Collection Activities (FERC-725M); Comment Request; Extension

AGENCY: Federal Energy Regulatory Commission, Department of Energy.

ACTION: Notice of information collection and request for comments.

SUMMARY: In compliance with the requirements of the Paperwork Reduction Act of 1995 (PRA), the Federal Energy Regulatory Commission (Commission or FERC) is soliciting public comment on the currently approved information collection, FERC-725M (Mandatory Reliability Standard: Transmission Vegetation Management), which will be submitted to the Office of Management and Budget (OMB) for review.

DATES: Comments on the collection of information are due March 8, 2023.

ADDRESSES: Send written comments on FERC-725M (identified by Docket No. IC23-3-000) to the Office of Management and Budget (OMB) through www.reginfo.gov/public/do/PRAMain, Attention: Federal Energy Regulatory Commission Desk Officer. Please identify the OMB Control Number 1902-0263 (Mandatory Reliability Standard: Transmission Vegetation Management) in the subject line. Your comments should be sent within 30 days of publication of this notice in the Federal Register.

Please submit copies of your comments (identified by Docket No. IC23-3-000 and FERC-725M) to the Commission as noted below. Electronic filing through https://www.ferc.gov is preferred.

• Electronic Filing: Documents must be filed in acceptable native applications and print-to-PDF, but not in scanned or picture format.

• For those unable to file electronically, comments may be filed by USPS mail or by hand (including courier) delivery:

Mail via U.S. Postal Service only, addressed to: Federal Energy Regulatory Commission, Secretary of the Commission, 888 First Street NE, Washington, DC 20426.

Hand (including courier) delivery to: Federal Energy Regulatory Commission, 12225 Wilkins Avenue, Rockville, MD 20852.

Please reference the specific collection number(s) (FERC-725M) and/or title(s) (Gas Pipeline Rates: Refund Report Requirements) in your comments.

Instructions: OMB submissions must be formatted and filed in accordance with submission guidelines at: www.reginfo.gov/public/do/PRAMain. Using the search function under the “Currently Under Review field,” select “Federal Energy Regulatory Commission,” click “submit,” and select “comment” to the right of the subject collection. FERC submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Ellen Brown may be reached by email at DataClearance@FERC.gov and telephone at (202) 502-8663.

SUPPLEMENTARY INFORMATION:

Title: FERC-725M (Mandatory Reliability Standard: Transmission Vegetation Management).

OMB Control No.: 1902-0263.

Type of Request: Three-year extension of the FERC-725M with no updates to the current reporting requirements.

Abstract: On September 19, 2013, the Commission issued Order No. 785, Docket No. RM12-16-000, a Final Rule ¹ approving modifications to four existing Reliability Standards submitted by the North American Electric Reliability Corporation (NERC), the Commission certified Electric Reliability Organization. Specifically, the Commission approved Reliability Standards FAC-001-1 (Facility Connection Requirements), FAC-003-3 (Transmission Vegetation Management), PRC-004-2.1a (Analysis and Mitigation of Transmission and Generation Protection System Misoperations), and PRC-005-1.1b (Transmission and Generation Protection System Maintenance and Testing).² The modifications improved reliability either by extending applicability of the Reliability Standard to certain generator interconnection facilities, or by clarifying that the existing Reliability Standard is and remains applicable to generator interconnection facilities.

¹ Generator Requirements at the Transmission Interface, 144 FERC ¶ 61,221 (2013).

² The burden included in information collection FERC-725M (in Docket No. RM12-16) corresponds to FAC-003-3 (Transmission Vegetation Management). The Final Rule RM12-16-000 modifications included in PRC-004-2.1a and PRC-005-1.1b, which are not a subject of the 725M information collection.

The currently effective reliability standard is FAC-003-4 (Transmission Vegetation Management). Reliability Standard FAC-003-4 includes the Minimum Vegetation Clearance Distances (MVCDs) which are based on additional testing regarding the appropriate gap factor to be used to calculate clearance distances for vegetation. NERC previously explained that Reliability Standard FAC-003-4 includes higher and more conservative MVCD values and, therefore, maintained that FAC-003-4 would “enhance reliability and provide additional confidence by applying a more conservative approach to determining the vegetation clearing distances.”

On March 4, 2022, a Delegated Letter Order was issued, Docket No. RD22-2-000, approving FAC-003-5. The Reliability Standard FAC-003-5 set forth requirements to maintain a reliable electric transmission system by using a defense‐in‐depth strategy to manage vegetation located on transmission rights of way (ROW) and minimize encroachments from vegetation located adjacent to the ROW, thus preventing the risk of those vegetation‐related outages that could lead to cascading. Specific to FAC-003-5, modifications were done to replace the Interconnection Reliability Operating Limit (IROL) with new language. The requirements in FAC-003-5 result in two years of one-time costs, which are reflected in the burden table below.

In FERC-725M we are renewing the information collection requirements that are currently in Reliability Standard FAC-003-4 but were not specified in RD22-2-000. Furthermore, we are adjusting the burden in FAC-003-4 to reflect the latest number of applicable entities based on the NERC Compliance Registry as of September 16, 2022.

Type of Respondents: Transmission Owner (TO); Generator Owner (GO); and Regional Entity (RE).

Estimate of Annual Burden.³ The Commission estimates the annual public reporting burden and cost ⁴ for the information collection as:

³ Burden is defined as the total time, effort, or financial resources expended by persons to generate, maintain, retain, or disclose or provide information to or for a federal agency. See 5 CFR 1320 for additional information on the definition of information collection burden.

⁴ The estimated hourly cost (salary plus benefits) are based on the figures for May 2022 posted by the Bureau of Labor Statistics for the Utilities sector (available at http://www.bls.gov/oes/current/naics2_22.htm) and updated with benefits information (at http://www.bls.gov/news.release/ecec.nr0.htm). The hourly estimates for salary plus benefits are:

—Manager (code 11-0000), $102.41.

—Information and Records Clerks (code 43-4199), $42.35.

—Electrical Engineer (code 17-2071), $77.02.

The average hourly burden cost for this collection is $73.93 [($102.41 + $42.35 + $77.02)/3 = $73.93)] and is rounded to $74.00 an hour.

FERC-725M, Mandatory Reliability Standards: Generator Requirements at the Transmission Interface
| Number of respondents ⁵ | Annual number of responses per respondent | Total number of responses | Average burden hours & cost per response | Total annual burden hours & total annual cost | Cost per respondent ($)
| (1) | (2) | (1) * (2) = (3) | (4) | (3) * (4) = (5) | (5) ÷ (1)
Currently Effective Standard: FAC-003-4 (Transmission Vegetation Management)
Generator Owners, Regional Entities: Quarterly Reporting (Compliance 1.4) | ⁶ 116 | 4 | 464 | 0.25 hrs.; $18.50 | 116 hrs.; $8,584.00 | $74.00
Generator Owners: Annual Veg. inspect. Doc. (M6); Work Plan (M7); Evidence of Mgt. of Veg. (M1 & M2); Confirmed Veg. Condition (M4); & Corrective Action (M5) | 110 | 1 | 110 | 2 hrs.; $148.00 | 220 hrs.; $16,280.00 | 148.00
Generator Owners, Transmission Owners: Record Retention (Compliance 1.2) | 437 | 1 | 437 | 1 hr.; $74.00 | 437 hrs.; $32,338.00 | 74.00
Sub-Total for standards in FAC-003-4 |  |  | 1,011 |  | 773 hrs.; $57,202.00 |
FERC-725M (Modifications from RD22-2-000) ⁷
One Time Estimate Years 1 and 2 ⁸
FAC-003-5 | TO (325) | 4 | 1,300 | 8 hrs.; $728 | 10,400 hrs.; $946,400 |
| GO (1068) | 4 | 4,272 | 8 hrs.; $728 | 34,176 hrs.; $3,110,016 |
Sub-Total for standards in FAC-003-5 |  |  | 5,572 |  | 44,576 hrs.; $4,056,416 |
Average Annual Burden over 3 years (RM22-2 Modification) |  |  | 1,857.33 |  | 14,858.67 hrs.; $1,352,138.97 |
Total of 725M |  |  | 2,868.33 |  | 15,631.67 hrs.; $1,422,481.97 |

Comments: Comments are invited on: (1) whether the collection of information is necessary for the proper performance of the functions of the Commission, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

⁵ According to the NERC Compliance Registry as of September 16, 2022, there are 1,099 generator owners and 327 transmission owners registered in North America. We estimate that approximately 10 percent (or 110) of these generator owners have interconnection facilities that are applicable to the standard.

⁶ The estimated number of respondents (116) includes 110 generator owners and 6 Regional Entities.

⁷ RD22-2-000 and the related reliability standards in FAC-003-5 becomes effective 4/1/2023 and are one-time burdens for year 1 and 2. These modifications are currently under review at OMB. This renewal covers other information collection requirements in 725M that were not part of RD22-2-000.

⁸ Commission staff estimated that the industry's skill set (wages and benefits) for RD22-2-000 is comparable to the Commission's skill set. The FERC 2022 average salary plus benefits for one FERC full-time equivalent (FTE) is $188,922 year (or $91 per hour [rounded]).

Dated: January 31, 2023.
Kimberly D. Bose,
Secretary.

[FR Doc. 2023-02412 Filed 2-3-23; 8:45 am]

BILLING CODE 6717-01-P